DEPARTMENT OF HOMELAND SECURITY

Coast Guard

[Docket No. USCG-2008-0333]

Delaware River and Bay Oil Spill Advisory Committee; Meeting

AGENCY: Coast Guard, DHS.

ACTION: Notice of meeting.

SUMMARY: The Delaware River and Bay Oil Spill Advisory Committee (DRBOSAC) will meet in Philadelphia, PA to discuss and approve DRBOSAC's report on oil spill prevention and response strategies for the Delaware River and Bay. This meeting will be open to the public.

DATES: The Committee will meet on Wednesday, April 28, 2010, from 10 a.m. to 4 p.m. This meeting may close early if all business is finished. Written material, requests to make oral presentations, and requests to have a copy of your material distributed to each member of the committee should reach the Coast Guard on or before April 20, 2010.

ADDRESSES: The Committee will meet at John Heinz Wildlife Refuge (Multi-purpose room), 8601 Lindbergh Boulevard, Philadelphia, PA 19153. Send written material and requests to make oral presentations to Gerald Conrad, Liaison to the Designated Federal Officer (DFO) of the DRBOSAC, at the address above. This notice and any documents identified in the Supplementary Information section as being available in the docket may be viewed online, at http://www.regulations.gov, using docket number USCG-2008-0333.

FOR FURTHER INFORMATION CONTACT: Gerald Conrad, Liaison to the DFO of the DRBOSAC, telephone 215-271-4824.

SUPPLEMENTARY INFORMATION: Notice of this meeting is given under the Federal Advisory Committee Act, 5 U.S.C. App. (Pub. L. 92-463).

Agenda of the Meeting

The agenda for the April 28 meeting is as follows:

(1) Opening comments.

(2) Administrative announcements.

(3) Introductions.

(4) Pre-approved presentations from the public.

(5) Debriefs from each DRBOSAC Sub-committee.

(6) Public comments.

(7) Committee recommendation(s) discussion.

(8) Future Committee business.

(9) Closing.

More information and detail on the meeting will be available at the committee Web site, located at https://homeport.uscg.mil/drbosac. Additional detail may be added to the agenda up to April 26, 2010.

Procedural

This meeting is open to the public. All persons entering the building will have to present identification and may be subject to screening. Please note that the meeting may close early if all business is finished.

The public will be able to make oral presentations during the meeting when given the opportunity to do so. Members of the public may seek pre-approval for their oral presentations by contacting the Coast Guard no later than April 20, 2010. The public may file written statements with the committee; written material should reach the Coast Guard no later than April 20, 2010. If you would like a copy of your material distributed to each member of the committee, please submit 35 copies to the Liaison to the DFO no later than April 20, 2010, and indicate that the material is to be distributed to committee members at the April 28, 2010 meeting.

Please register your attendance with the Liaison to the DFO no later than April 20, 2010.

Information on Services for Individuals With Disabilities

For information on facilities or services for individuals with disabilities or to request special assistance at the meeting, contact the Liaison to the DFO as soon as possible.

Dated: April 7, 2010.
Joseph M. Re,
Captain, U.S. Coast Guard, Office of Performance Management (CG-0954).

[FR Doc. 2010-8371 Filed 4-8-10; 11:15 am]

BILLING CODE 9110-04-P